DEPARTMENT OF COMMERCE

Census Bureau

Proposed Information Collection; Comment Request; 2012 Economic Census Covering the Information, etc.

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before May 16, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to Jack R. Drago, U.S. Census Bureau, Service Sector Statistics Division, HQ-8K059, 4600 Silver Hill Road, Washington, DC 20233-0001 (301-763-7190 or via the Internet at scb@census.gov).

SUPPLEMENTARY INFORMATION:

I. Abstract

The economic census, conducted under authority of Title 13, United States Code (U.S.C.), is the primary source of facts about the structure and functioning of the Nation's economy. Economic statistics serve as part of the framework for the national accounts and provide essential information for government, business, and the general public. Economic data are the Census Bureau's primary program commitment during nondecennial census years. The 2012 Economic Census covering the Information; Professional, Scientific, and Technical Services; Management of Companies and Enterprises; Administrative and Support and Waste Management and Remediation Services; Educational Services; Health Care and Social Assistance; Arts, Entertainment, and Recreation; and Other Services (Except Public Administration) sectors (as defined by the North American Industry Classification System (NAICS)) will measure the economic activity of approxiamately 3.0 million establishments. The information collected will produce basic statistics by kind of business on the number of establishments, receipts/revenue, expenses, payroll, and employment. It will also yield a variety of subject statistics, including receipts/revenue by product line, receipts/revenue by class of customer, and other industry-specific measures. Primary strategies for reducing burden in Census Bureau economic data collections are to increase reporting through standardized questionnaires and broader electronic data collection methods.

II. Method of Collection

Mail Selection Procedures

Establishments for the mail canvass will be selected from the Census Bureau's Business Register. To be eligible for selection, an establishment will be required to satisfy the following conditions: (i) It must be classified in the Information; Professional, Scientific, and Technical Services; Management of Companies and Enterprises; Administrative and Support and Waste Management and Remediation Services; Educational Services; Health Care and Social Assistance; Arts, Entertainment, and Recreation; or Other Services (except Public Administration) sector; (ii) it must be an active operating establishment of a multi-establishment firm (i.e., a firm that operates at more than one physical location), or it must be a single-establishment firm with payroll (i.e., a firm that operates at only one physical location); and (iii) it must be located in one of the 50 States or the District of Columbia. Mail selection procedures will distinguish the following groups of establishments:

1. Establishments of Multi-Establishment Firms

All active operating establishments of multi-establishment firms will be included in the mail component of the potential respondent universe. We estimate that the 2012 Economic Census mail canvasses will include approximately 598,698 establishments of multi-establishment firms.

2. Single-Establishment Firms With Payroll

As an initial step in the selection process, we will conduct a study of the potential respondent universe. This study will produce a set of industry-specific payroll cutoffs that we will use to distinguish large versus small single-establishment firms within each industry or kind of business. This payroll size distinction will affect selection as follows:

a. Large Single-Establishment Firms

All single-establishment firms having annualized payroll (from Federal administrative records) that equals or exceeds the cutoff for their industry will be included in the mail component of the potential respondent universe. We estimate that the 2012 Economic Census mail canvasses will include approximately 595,742 large single-establishment firms.

b. Small Single-Establishment Firms

A sample of single-establishment firms having annualized payroll below the cutoff for their industry will be included in the mail component of the potential respondent universe. Sampling strata and corresponding probabilities of selection will be determined by a study of the potential respondent universe conducted shortly before the mail selection operations begin. We estimate that the 2012 Economic Census mail canvasses will include approximately 195,662 small single-establishment firms selected in this sample.

All remaining single-establishment firms with payroll will be represented in the census by data from Federal administrative records. Generally, we will not include these small employers in the census mail canvasses. However, administrative records sometimes have fundamental industry classification deficiencies that make them unsuitable for use in producing detailed industry statistics by geographic area. When we find such a deficiency, we will mail the firm a census classification form. We estimate that the 2012 Economic Census mail canvasses will include approximately 348,402 small single-establishment firms that receive these forms.

III. Data

OMB Control Number: 0607-0934.

Form Number: The 85 standard forms, 22 classification forms, and six ownership or control fliers used to collect information from businesses in these sectors of the Economic Census are tailored to specific business practices and are too numerous to list separately in this notice.

Type of Review: Regular submission.

Affected Public: State or local governments, businesses, or other for profit or non-profit institutions or organizations.

Estimated Number of Respondents: 1,542,829.

Estimated Time per Response: .95 hours.

Estimated Total Annual Burden Hours: 1,462,751 hours.

Estimated Total Annual Cost: $42,434,751.

Respondent's Obligation: Mandatory.

Legal Authority: Title 13 U.S.C. Section 131 and 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 10, 2011.
Glenna Mickelson,
Management Analyst, Office of the Chief Information Officer.

[FR Doc. 2011-5980 Filed 3-14-11; 8:45 am]

BILLING CODE 3510-07-P